MERIT SYSTEMS PROTECTION BOARD

Agency Information Collection Activities; Proposed Collection

AGENCY: Merit Systems Protection Board.

ACTION: Notice.

SUMMARY: The Merit Systems Protection Board (MSPB) intends to request approval of a revised information collection from the Office of Management and Budget (OMB) under the Paperwork Reduction Act of 1995 (44 U.S.C. 3506 and 3507). The currently approved information collection is the MSPB Appeal Form, MSPB Form 185 (OMB Control Number 3124-0009). The MSPB intends to make one substantive change to the information collected on the MSPB Appeal Form: Individuals who file appeals with the MSPB will be required to provide the last four digits of their Social Security numbers. In addition, several minor edits have been made to the Appeal Form to make the process easier to understand. At this time, the MSPB is requesting public comments on the revised MSPB Form 185, which is available for review on the MSPB Web site at http://mspb.gov/headlinespage.html. In addition to soliciting comments on the changes to the Appeal Form, we are also soliciting comments on the public reporting burden.

DATES: Comments must be received on or before November 20, 2006.

ADDRESSES: Submit comments to the Office of the Clerk of the Board, Merit Systems Protection Board, 1615 M Street, NW., Washington, DC 20419. Because of possible mail delays, respondents are encouraged to submit comments by e-mail to mspb@mspb.gov or by facsimile (fax) transmittal to (202) 653-7130.

FOR FURTHER INFORMATION CONTACT: Office of the Clerk of the Board, 1615 M Street, NW., Washington, DC 20419; telephone (202) 653-7200; facsimile (fax) (202) 653-7130; e-mail to mspb@mspb.gov. Persons without Internet access may request a paper copy of the MSPB Appeal Form from the Office of the Clerk.

SUPPLEMENTARY INFORMATION: The current version of the MSPB Appeal Form was approved by OMB, in accordance with the requirements of the Paperwork Reduction Act, in July 2003. At the same time, OMB approved the Board's use of e-Appeal, the MSPB's Web-based system for filing appeals online (https://e-appeal.mspb.gov). Once OMB has approved the changes to the paper-based form as described below, the MSPB will incorporate these changes into e-Appeal.

Social Security Numbers

In Part 1 of the revised Appeal Form, each appellant is required to provide the last four digits of his or her Social Security number. The instructions for this item state as follows: “The Merit Systems Protection Board requires that you provide it with the last four digits of your Social Security number. This information will be used solely for identification purposes in the processing of your appeal. Failure to provide this information may result in the delay or non-processing of your appeal.”

The reason for requiring this information is to ascertain whether an appellant has filed previous appeals with the MSPB that may affect the processing of the new appeal. Because of the similarity of names and the possibility of name changes, and because appellants sometimes use nicknames instead of formal names, it can be difficult to determine whether the person who has filed a new appeal is the same person who filed one or more previous Board appeals. Although requiring the last four digits of the appellant's Social Security number will not result in certainty as to the filer's identity, it will give the MSPB more assurance in this regard.

Section 7(a) of the Privacy Act of 1974 provides that it is unlawful for a federal agency to “deny to any individual any right, benefit, or privilege provided by law because of such individual's refusal to disclose his social security account number.” Because federal law provides federal employees the right to file appeals with the MSPB, that right cannot be conditioned on the individual's providing the MSPB with his or her Social Security number. According to a Policy Analyst with the Information Policy and Technology Branch of the OMB, OMB takes the position that the last four digits of an individual's Social Security number do not constitute that individual's Social Security number, and can be made mandatory. The Board will carefully safeguard the last four digits of Social Security numbers provided by appellants in MSPB proceedings. This information will not generally be disclosed to third parties.

Estimated Reporting Burden

In accordance with the requirements of the Paperwork Reduction Act of 1995, the MSPB is soliciting comments on the public reporting burden for this information collection. The public reporting burden for this collection of information is estimated to vary from 20 minutes to 4 hours, with an average of 60 minutes per response, including time for reviewing the form and instructions, searching existing data sources, gathering the data necessary, and completing and reviewing the collection of information.

Specifically, the MSPB invites comments on: (1) Whether the proposed collection of information is necessary for the proper performance of MSPB's functions, including whether the information will have practical utility; (2) the accuracy of the MSPB's estimate of burden of the proposed collection of information, including the validity of the methodology and assumptions used; (3) ways to enhance the quality, utility, and clarity of the information to be collected; and (4) ways to minimize the burden of the collection of information on respondents, including through the use of automated collection techniques, when appropriate, and other forms of information technology.

Estimated Annual Reporting Burden
5 CFR Parts | Annual number of respondents | Frequency per response | Total annual response | Hours per response | Total hours
1201, 1208, and 1209 | 7,150 | 1 | 7,150 | 1.0 | 7,150

Dated: September 15, 2006.
Bentley M. Roberts, Jr.,
Clerk of the Board.

[FR Doc. 06-7831 Filed 9-20-06; 8:45 am]

BILLING CODE 7401-01-P